DEPARTMENT OF HOUSING AND URBAN DEVELOPMENT

[Docket No. FR-4900-FA-02]

Announcement of Funding Awards for Fiscal Year 2004; Doctoral Dissertation Research Grant Program

AGENCY: Office of the Assistant Secretary for Policy Development and Research, HUD.

ACTION: Announcement of funding awards.

SUMMARY: This document identifies the doctoral students selected for funding under the Fiscal Year (FY) 2004 Doctoral Dissertation Research Grant (DDRG) Program. The DDRG program enables Ph.D. candidates to complete their research and dissertations on topics that focus on policy-relevant housing and urban development issues.

FOR FURTHER INFORMATION CONTACT: Susan Brunson, Office of University Partnerships, U.S. Department of Housing and Urban Development, Room 8106, 451 Seventh Street, SW., Washington, DC 20410, telephone (202) 708-3061, ext. 3852. To provide service for persons who are hearing- or speech-impaired, this number may be reached through TTY by dialing the Federal Information Relay Service on 800-877-8339 or (202) 708-1455. (Telephone numbers, other than “800” TTY numbers are not toll free).

SUPPLEMENTARY INFORMATION: The DDRG Program was created as a means of expanding the number of researchers conducting research on subjects of interest to HUD. Doctoral candidates can receive grants of up to $25,000 to complete work on their dissertations. Grants are for a two-year period.

This program is administered by the Assistant Secretary for Policy Development and Research (PD&R), Office of University Partnerships. This Office also administers PD&R's other grant programs for academics.

The Catalog of Federal Domestic Assistance number for this program is 14.516.

On May 14, 2004, HUD published a Notice of Funding Availability (NOFA) announcing the availability of $400,000 in Fiscal Year 2004 for the DDRG Program (69 FR 27111). The Department reviewed, evaluated and scored the applications received based on the criteria in the NOFA. As a result, HUD has funded the applicants identified below, and in accordance with Section 102(a)(4)(C) of the Department of Housing and Urban Development Reform Act of 1989 (103 Stat. 1987, U.S.C. 3545), the Department is publishing details concerning the recipients of funding awards. More information about the winners can be found at http://www.oup.org.

List of Awardees for Grant Assistance Under the FY 2004 Doctoral Dissertation Research Grant Program Funding Competition, by Institution, Address, Grant Amount and Name of Student Funded

1. University of Southern California, University Park Campus, RGL Building, Los Angeles, CA 90089. Grant: $25,000 to Duan Zhuang.

2. Virginia Polytechnic Institute and State University, 460 Turner Street, Suite 306, Blacksburg, VA 24060. Grant: $24,976 to James Armstrong.

3. The Regents of the University of California, 10920 Wilshire Boulevard, Suite 1200, Los Angeles, CA 90024. Grant: $24,988 to Yan Lee.

4. Massachusetts Institute of Technology, 77 Massachusetts Avenue, Room 9-523, Cambridge, MA 02139. Grant: $25,000 to Criseida Navarro-Diaz.

5. University of Texas at Austin, North Office Building-Suite 4300, 101 East 27th Street, Austin, TX 78713. Grant: $25,000 to Pamela Rogers.

6. Rutgers, The State University of New Jersey, 3 Rutgers Plaza, New Brunswick, NJ 08901. Grant: $25,000 to Kristen Crassney.

7. Rutgers, The State University of New Jersey, 3 Rutgers Plaza, New Brunswick, NJ 08901. Grant: $23,480 to Mathew Cuddy.

8. Regents of the University of Michigan, 303 South State Street, Room 1044, Ann Arbor, MI 48109-1274. Grant: $25,000 to George Carter.

9. University of North Carolina at Chapel Hill, Office of Sponsored Research, CB#1350, Chapel Hill, NC 27599. Grant: $24,992 to Lisa Bates.

10. The Board of Trustees of the University of Illinois, 809 South Marshfield (M/C 551), Chicago, IL 60612. Grant: $25,000 to Michael Wenz.

11. Regents University of Michigan, 427 Thompson Street, P.O. Box 1248, Ann Arbor, MI 48106. Grant: $25,000 to Sapna Swaroop.

12. University of Massachusetts, Office of Grant & Contract Administration, Goodell Building, Room 408, Amherst, MA 01003. Grant: $25,000 to Mark Tigan.

13. University of Pittsburgh, 350 Thackeray Hall, Pittsburgh, PA 15260. Grant: $24,800 to Andrew Aurand.

14. Research Foundation for Graduate School & University Center, City University of New York, 365 Fifth Avenue, New York, NY 10016. Grant: $24,925 to Arielle Goldberg.

15. New York University, 15 Washington Place, #1H, New York, NY 10003. Grant: $25,000 to Michael McQuarrie.

16. Florida State University, 97 South Woodward Avenue, 3rd Floor, Tallahassee, FL 32306. Grant: $20,000 to Gregory Burge.

Dated: December 1, 2004.
Dennis C. Shea,
Assistant Secretary for Policy Development and Research.

[FR Doc. 04-27413 Filed 12-14-04; 8:45 am]

BILLING CODE 4210-62-M